DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

TIME AND DATE: July 16, 2020, 10:00 a.m.

PLACE: Open to the public via audio Webcast only.¹

¹ Join FERC online to listen live at http://ferc.capitolconnection.org/.

STATUS: Open.

MATTERS TO BE CONSIDERED: Agenda, * NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link.

1069th Meeting—Open Meeting
[July 16, 2020, 10:00 a.m.]
Item No. | Docket No. | Company
Administrative
A-1 | AD20-1-000 | Agency Administrative Matters.
A-2 | AD20-2-000 | Customer Matters, Reliability, Security and Market Operations.
Electric
E-1 | RM19-15-000, AD16-16-000 | Qualifying Facility Rates and Requirements Implementation Issues Under the Public Utility Regulatory Policies Act of 1978.
E-2 | EL20-42-000 | New England Ratepayers Association.
E-3 | ER18-1639-001 | Constellation Mystic Power, LLC.
E-4 | ER18-1639-002 | Constellation Mystic Power, LLC.
E-5 | ER18-1639-003 | Constellation Mystic Power, LLC.
E-6 | EL14-37-000 | PJM Interconnection, L.L.C.
E-7 | RM05-5-029, RM05-5-030 | Standards for Business Practices and Communication Protocols for Public Utilities.
E-8 | ER17-998-001, EL17-61-001 | DATC Path 15, LLC.
E-9 | ER19-1864-003, ER19-1864-004 | Public Service Company of Colorado.
E-10 | ER09-1256-006, ER12-2708-008 | Potomac-Appalachian Highline Transmission, LLC PJM Interconnection, L.L.C.
E-11 | ER19-1902-002 | Deseret Generation & Transmission Co-operative, Inc.
E-12 | ER19-1950-001 | California Independent System Operator Corporation.
E-13 | ER19-468-002 | California Independent System Operator Corporation.
E-14 | ER17-801-006, ER17-801-008, ER17-801-009, EL20-34-000 | Constellation Power Source Generation, LLC.
E-15 | ER18-1247-001 | Entergy Arkansas, Inc.
E-16 | ER20-1762-000 | Duke Energy Carolinas, LLC.
E-17 | ER20-1580-000 | Alcoa Power Generating Inc.
E-18 | ER19-460-005 | Southwest Power Pool, Inc.
E-19 | ER20-1617-000 | Southwest Power Pool, Inc.
E-20 | ER19-2522-002 | Southwest Power Pool, Inc.
E-21 | ER20-644-000 | Southwest Power Pool, Inc.
E-22 | ER19-469-003 | PJM Interconnection, L.L.C.
E-23 | ER19-1661-002 | PJM Interconnection, L.L.C. and Virginia Electric and Power Company.
E-24 | ER20-1414-000 | PJM Interconnection, L.L.C.
E-25 | EL19-80-000 | Kansas Corporation Commission v. ITC Great Plains, LLC.
E-26 | EL19-50-001 | Louisiana Public Service Commission v. Entergy Corporation, Entergy Services, LLC, Entergy Louisiana, LLC Entergy Arkansas, LLC, Entergy Mississippi, LLC, Entergy New Orleans, LLC, and Entergy Texas, Inc.
E-27 | EL20-4-000 | North Carolina Eastern Municipal Power Agency v. Duke Energy Progress, LLC.
E-28 | EL20-27-000 | Liberty Power Holdings LLC v. Eversource Energy Service Company and ISO New England, Inc.
E-29 | EL20-40-000 | Brookfield Asset Management Inc.
E-30 | EL20-15-000 | North Carolina Eastern Municipal Power Agency.
E-31 | EL19-70-000 | Indicated Generation Owners.
E-32 | ER19-2582-001 | Pacific Gas and Electric Company.
E-33 | ER20-1441-000 | PSEG Energy Resources & Trade LLC.
E-34 | OMITTED
E-35 | OMITTED
E-36 | ER20-1120-001, ER20-1120-002 | Paper Birch Energy, LLC.
E-37 | ER16-1404-001, ER16-1404-002 | New York Independent System Operator, Inc.
Micellaneous
M-1 | RM19-12-000 | Revisions to the Filing Process for Commission Forms.
Gas
G-1 | RP20-779-001 | Transcontinental Gas Pipe Line Company, LLC.
Hydro
H-1 | RM20-9-000 | Safety of Water Power Projects and Project Works.
H-2 | P-2082-062, P-2082-066, P-14803-000 | PacifiCorp.
| P-14803-003 | Klamath River Renewal Corporation.
H-3 | P-2035-099 | City and County of Denver, Colorado.
H-4 | P-2105-126 | Pacific Gas and Electric Company.
H-5 | P-606-040 | Pacific Gas and Electric Company.
H-6 | P-67-135, P-120-029, P-2085-021, P-2086-040, P-2174-018, P-2175-022 | Southern California Edison Company.
Certificates
C-1 | CP19-491-000 | National Fuel Gas Supply Corporation.
| CP19-494-000 | Transcontinental Gas Pipe Line Company, LLC.
C-2 | CP20-37-000 | Texas Eastern Transmission, LP.
C-3 | CP20-49-000 | Transcontinental Gas Pipe Line Company, LLC.

Issued: July 9, 2020.
Kimberly D. Bose,
Secretary.

The public is invited to listen to the meeting live at http://ferc.capitolconnection.org/. Anyone with internet access who desires to hear this event can do so by navigating to www.ferc.gov' s Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

[FR Doc. 2020-15265 Filed 7-10-20; 11:15 am]

BILLING CODE 6717-01-P